DEPARTMENT OF STATE

[Public Notice 5003]

Bureau of Educational and Cultural Affairs (ECA) Request for Grant Proposals: Middle East Partnership Initiative (MEPI) U.S. Business Internship Program for Young Middle Eastern Women

Announcement Type: New Cooperative Agreement.

Funding Opportunity Number: ECA/A/E 05-01-MEPI.

Catalog of Federal Domestic Assistance Number: 00.000.

Key Dates: Application Deadline: April 1, 2005.

Executive Summary: The Office of Academic Exchange Programs of the Bureau of Educational and Cultural Affairs announces an open competition for Middle East Partnership Initiative (MEPI) U.S. Business Internship Program for Young Middle Eastern Women. Public and private non-profit organizations meeting the provisions described in Internal Revenue Code section 26 U.S.C. 501(c)(3) may submit proposals to administer the participant recruitment, selection, pre-program preparation and alumnae components of the MEPI U.S. Business Internship Program for Young Middle Eastern Women.

Eligible countries/locales are listed under the heading Funding Opportunity Description in this RFGP.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. The funding for this program is provided through a transfer to the Bureau from the Middle East Partnership Initiative (MEPI).

Purpose: Subject to the availability of funds, the Bureau invites proposals from public and private non-profit organizations meeting the provisions described in Internal Revenue Code section 26 U.S.C. 501(c)(3) for the administration of the participant recruitment, selection, pre-program preparation and alumni components of the MEPI U.S. Business Internship Program for Young Middle Eastern Women for participants from Algeria, Bahrain, Egypt, Iraq, Israel (limited to the Israeli Arab sector), Jordan, Kuwait, Lebanon, Morocco, Oman, Qatar, Saudi Arabia, Syria, Tunisia, United Arab Emirates, West Bank/Gaza and Yemen.

ECA anticipates awarding one grant in the amount of $260,000 to fund these activities for 40 participants.

The goal of the MEPI U.S. Business Internship Program for Young Middle Eastern Women is to provide participants unique opportunities to learn management and business skills while working in the dynamic and productive U.S. business environment. The U.S. portion of the program will consist of a four-week MBA-level academic program, including coursework in management, finance, business strategy and information technology, followed by a three-month internship in a U.S. business. Cultural enrichment and monitoring must be provided throughout the program. The program will cover international and domestic travel, health insurance, housing and a living stipend in the U.S. Following the completion of the program, participants will be integrated into an alumnae community to support the development of an alumnae network.

Organizations submitting proposals must demonstrate the ability to effectively administer the participant recruitment, selection, pre-program preparation and alumnae components of the program in the Middle East and North Africa as described in the four (4) administrative categories below. The Bureau of Educational and Cultural Affairs and the Public Affairs section of U.S. embassies must be consulted in the implementation of these responsibilities, especially in the resolution of any issues or problems that may arise. The administrative portion of the grant should be kept to a minimum, and the Bureau encourages applicants to provide maximum levels of cost sharing and funding from private sources in support of this project.

A. Publicity, Recruitment and Selection

The proposal should include a plan for advertisement, recruitment and the open, merit-based selection of 40 principal and 10 alternate candidates from under-represented and geographically diverse socio-economic backgrounds in the eligible countries and locales. Organizations submitting proposals must be prepared to begin advertising and recruitment efforts in May 2005. The internship program is expected to begin in November 2005.

Applicant organizations must demonstrate the ability to conduct focused advertising and recruitment efforts in all eligible countries and locales to yield quality applications from women who meet the following eligibility requirements:

1. Women who are citizens of and currently residing in the following countries and locales: Algeria, Bahrain, Egypt, Iraq, Israel (limited to the Israeli Arab sector), Jordan, Kuwait, Lebanon, Morocco, Oman, Qatar, Saudi Arabia, Syria, Tunisia, United Arab Emirates, West Bank/Gaza and Yemen.

2. Women between the ages of 22 and 30 at the time of application.

3. Women who have (a) an undergraduate degree in business or law from a recognized academic institution; or (b) an undergraduate degree in any field with at least three years of substantive experience in the private sector. Applicants who have completed undergraduate degrees outside the specified countries are not eligible.

4. Proficiency in written and spoken English as documented by a minimum score of 550 on the Institutional Testing Program (ITP) or TOEFL test.

5. Demonstrated interest in achieving professional growth in the business sector of their home countries or locales.

Individuals who are currently enrolled in an academic program in the United States, who are living and/or working in the U.S., and/or who have previously participated in a program sponsored or funded by the U.S. Government and who have not fulfilled their two-year home residency requirement by the time of application are not eligible for the program.

The proposal should describe how project information will be disseminated to potential candidates, and how inquiries and applications will be screened and selected for the semi-finalist round interview process. The proposal should also include a specific strategy to conduct targeted outreach to women who are from outside the capital cities, live in economically disadvantaged sectors and have not previously studied in the United States. The deadline for applications is June 27, 2005.

The proposal should describe how your organization will administer in-country semi-finalist interview panels. Interview panels should be comprised of representatives from the Public Affairs section of U.S. embassies, embassy Economic/Commercial sections, locally qualified businessmen/women, NGO officials, and alumni of USG exchange programs. Candidates should be evaluated based on academic excellence, leadership potential, proficiency in written and spoken English, maturity, and flexibility and suitability to operate successfully in an American corporate environment. Recommended semi-finalist candidates must also possess a sufficient level of information technology knowledge and word processing ability to operate in a U.S. business. Interview evaluations must be standard in all countries and locales and must use a numeric ranking system. Interview panels should be completed no later than July 11, 2005. The dossiers of recommended semi-finalist candidates are due at the Bureau of Educational and Cultural Affairs in Washington, DC no later than July 20.

Note that all program materials must emphasize that this is an academic and professional training program. No program related communications should suggest or imply that the program will provide employment opportunities in the United States. Program communications should also emphasize that participants will not be able to extend or transfer their U.S. visa sponsorship at the completion of their internship, as they are expected to return to their home countries to fulfill the two-year home residency requirement of the J visa.

Applicant organizations should ensure that the Department of State, through the Bureau of Educational and Cultural Affairs and the Middle East Partnership Initiative, is acknowledged as the program sponsor in all program related communications. All communications and publicity, paper or electronic, must include the full program name, the Department of State seal and the following text: “A program of the U.S. Department of State, Bureau of Educational and Cultural Affairs and the Middle East Partnership Initiative.” The Bureau and MEPI program officers must approve all publicity and advertising materials before they are published.

B. Pre-Program Preparation

The proposal should include a plan to provide a pre-departure briefing, including distribution of explanatory materials on the U.S. and the program. Given the heightened security issues facing foreign visitors and travelers to the U.S., this pre-departure orientation may also include the participants' immediate and extended families. The pre-departure orientation should take place before September 15, 2005.

The proposal should also address how organizations will counsel program applicants and family members on the program goals and address concerns about living in the U.S.

Organizations should also be prepared to provide support to finalists for visa applications and travel and to the Bureau of Educational and Cultural Affairs, the Public Affairs Section of the U.S. embassies, finalists and their families in matters relating to, but not limited to, program communications.

C. Alumnae Network

The proposal should include a plan to promote communication and networking among program participants after they return from the U.S. Alumnae activities should include an enrichment workshop. This workshop should be held in the region and last 2-3 days. The purpose of the workshop is to enable the participants to network and to expand the skill sets they acquired during the internship project.

Additional grantee responsibilities will include the production of four issues of a quarterly newsletter for the alumnae network. The newsletter content should encompass professional information as well as submissions from alumnae. The first newsletter should be published in March 2006 to coincide with the participants' return from the U.S. Subsequent issues should be published and distributed in June 2006, October 2006, and December 2006. The Bureau and MEPI should be closely consulted during the development and implementation of the alumnae activities.

D. Program Administration and Support Services

The proposal should include a plan to

1. Establish and maintain participant statistical database, including the following fields: name, address, citizenship, country of residence, field-of-study, degree received, business placement, email, phone.

2. Maintain records, including opening, maintaining, sharing and closing intern files. Retain records of grants and other pertinent documentation.

3. Review of applicants, including a technical review of applications for eligibility and thoroughness, checking for accurate bio-data, transcripts, recommendations, TOEFL scores and follow-up, if necessary, to secure missing documentation. Provide the Bureau with the original and 4 copies of the applications of the principal and alternate candidates.

4. Facilitate travel to an international gateway airport for participants before and after the U.S. portion of the program. Please note that purchase of international airplane tickets will be arranged through a separate grant. The grantee organization under this cooperative agreement will only be expected to provide logistical assistance, support, and travel funds in the participants' home countries/locales.

The Bureau, in collaboration with MEPI, is substantially involved in program activities above and beyond routine grant monitoring. The Bureau and MEPI activities and responsibilities related to this cooperative agreement are as follows: review and clearance of advertising and publicity material, regular communications with grantee organization staff, review and clearance of pre-departure orientation material, final selection of recommended participants, and management of regular communications with program finalists.

II. Award Information

Type of Award: Cooperative Agreement. ECA's level of involvement in this program is listed under number I above.

Fiscal Year Funds: FY 2004/FY 2005—carried over into FY 2005 for obligation.

Approximate Total Funding: $260,000.

Approximate Number of Awards: 1.

Approximate Average Award: $260,000.

Anticipated Award Date: May 15, 2005 (pending allocation and commitment through internal ECA procedures).

Anticipated Project Completion Date: December 31, 2006.

III. Eligibility Information

III.1. Eligible applicants

Proposals may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3 Other Eligibility Requirements

a. Bureau grant guidelines require that organizations with less than four years experience in conducting international exchanges be limited to $60,000 in Bureau funding. ECA anticipates awarding one grant, in an amount up to $260,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1 Contact Information To Request an Application Package

Please contact the Office of Academic Exchange Programs, ECA/A/E, Room 234, U.S. Department of State, SA-44, 301 4th Street, SW., Washington, DC 20547, 202-619-4360 (phone), 202-401-5914 (fax) or borisre@state.gov to request a Solicitation Package. Please refer to the Funding Opportunity Number ECA/A/E 05-01-MEPI located at the top of this announcement when making your request.

The Solicitation Package contains the Proposal Submission Instruction (PSI) document which consists of required application forms, and standard guidelines for proposal preparation.

Please specify Bureau Program Officer Rhonda E. Boris and refer to the Funding Opportunity Number ECA/A/E 05-01-MEPI located at the top of this announcement on all other inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and 10 copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. A cooperating agency of the Bureau, which will administer the U.S. portions of this program under a separate renewal agreement, will be responsible for issuing DS-2019 forms to participants.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

IV.3.d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3.d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3.e.1. Applicants must submit a comprehensive budget for the entire program. There must be a summary budget as well as breakdowns reflecting both administrative and program budgets. Applicants may provide separate sub-budgets for each program component, phase, location, or activity to provide clarification.

IV.3.e.2. Allowable costs for the program include the following:

1. Recruitment and advertising costs;

2. Staff travel and per diem related to recruitment and selection activities. Applicant should indicate expenses separately as they relate to recruitment and selection, indicating the travel destination.

3. Cost of standardized TOEFL examination;

4. Orientation costs;

5. Alumni newsletter; and

6. Alumni enrichment seminar.

Domestic Administrative Costs

1. Staff salaries and benefits. Each person and his/her position must be listed separately. In addition, note the percentage of his/her total time spent on this project;

2. Communication costs (e.g. fax, telephone, postage, communication equipment);

3. Office supplies;

4. Administration of tax withholding and reporting as required by Federal, State and local authorities and in accordance with relevant tax treaties;

5. Audit fees;

6. Other direct expenditures; and

7. Indirect costs.

Overseas Administrative Costs

1. Staff salaries and benefits. Each person and his/her position must be listed separately. In addition, note the percentage of his/her total time spent on this project;

2. Communication costs (including telephone, fax, postage, communication equipment, etc.);

3. Office supplies;

4. Administration of tax withholding and reporting as required by Federal, State and local authorities and in accordance with relevant tax treaties;

5. Other direct costs; and

6. Indirect costs.

The above cost allocations are subject to the availability of funds. The Bureau reserves the right to modify any of the above cost allocations to achieve project efficiencies and cost-savings.

Please refer to the Solicitation Package for complete budget guidelines and formatting instructions.

IV.3f. Submission Dates and Times: Application Deadline Date: April 1, 2005.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and 10 copies of the application should be sent to: U.S. Department of State, SA-44, Bureau of Educational and Cultural Affairs, Ref.: ECA/A/E 05-01-MEPI, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

IV.3h. Applicants must also submit the “Executive Summary” and “Proposal Narrative” sections of the proposal in text (.txt) format on a PC-formatted disk. The Bureau will provide these files electronically to the appropriate Public Affairs Section(s) at the U.S. embassy(ies) for its (their) review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Support of Diversity: Proposals should demonstrate substantive support of the Bureau's policy on diversity. Achievable and relevant features should be cited in both program administration (selection of participants, program venue and program evaluation) and program content (orientation and wrap-up sessions, program meetings, resource materials and follow-up activities).

5. Institutional Capacity: Proposed personnel and institutional resources should be adequate and appropriate to achieve the program or project's goals.

6. Institution's Record/Ability: Proposals should demonstrate an institutional record of successful exchange programs, including responsible fiscal management and full compliance with all reporting requirements for past Bureau grants as determined by Bureau Grants Staff. The Bureau will consider the past performance of prior recipients and the demonstrated potential of new applicants.

7. Project Evaluation: Proposals should include a plan to evaluate the activity's success, both as the activities unfold and at the end of the program. A draft survey questionnaire or other technique plus description of a methodology to use to link outcomes to original project objectives is recommended.

8. Cost-effectiveness: The overhead and administrative components of the proposal, including salaries and honoraria, should be kept as low as possible. All other items should be necessary and appropriate.

9. Cost-sharing: Proposals should maximize cost-sharing through other private sector support as well as institutional direct funding contributions.

10. Value to U.S.-Partner Country Relations: Proposed projects should receive positive assessments by the U.S. Department of State's geographic area desk and overseas officers of program need, potential impact, and significance in the partner country(ies).

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements

You must provide ECA with a hard copy original plus two copies of the following reports:

1. A final program and financial report no more than 90 days after the expiration of the award;

2. A recruitment and selection report to be submitted by October 1, 2005, and to include the following information:

(a) Detailed report of the advertising and recruitment strategy in each country. This report should include the names of newspapers, journals, radio stations and television stations used to advertise the program, as well as a list of cities visited and the universities, institutions, advising centers and other organizations at which recruitment presentations were made. Include the number of applications distributed in each country, and the number of completed applications received.

(b) Description of the selection and notification process of semi-finalists. Include the dates of selection committee meetings, as well as names, titles and affiliation of committee members.

(c) Detailed report on the selection and notification process of finalists.

(d) A preliminary list of all participants, their countries of origin, cities of residence, home institutions/employers, job title, job responsibilities and fields of university study. Please include participants' ethnic backgrounds and disability information, if available.

(e) Description of pre-departure orientation programs including dates, locations and program schedules (i.e. speakers and topics).

3. An interim report to be submitted by February 1, 2006, and containing the following information:

(a) Report on re-entry support and other alumni activities, including dates, locations and program schedules (i.e. speakers and topics).

(b) Detailed report on the use of Web sites or other electronic communication to promote the development of the alumnae network.

(c) Samples of the quarterly alumni newsletters.

(d) Update on planning for the annual alumni conference.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Rhonda E. Boris, Program Officer, Office of Academic Exchange Programs, ECA/A/E, Room 234, ECA/A/E 05-01-MEPI, U.S. Department of State, SA-44, 301 4th Street, SW., Washington, DC 20547, 202-619-4360 (phone), 202-401-5914 (fax) or borisre@state.gov.

All correspondence with the Bureau concerning this RFGP should reference the above title and number ECA/A/E 05-01-MEPI.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Notification

Final awards cannot be made until funds have been appropriated by Congress, allocated and committed through internal Bureau procedures.

Dated: February 18, 2005.
C. Miller Crouch,
Principal Deputy Assistant Secretary, Bureau of Educational and Cultural Affairs, Department of State.

[FR Doc. 05-3699 Filed 2-24-05; 8:45 am]

BILLING CODE 4710-05-P